DEPARTMENT OF TRANSPORTATION

Federal Highway Administration

Environmental Assessment or Environmental Impact Statement: Franklin and Licking Counties, OH

AGENCY: Federal Highway Administration (FHWA), DOT.

ACTION: Notice of intent.

SUMMARY: The FHWA is issuing this notice to advise the public that an Environmental Assessment or Environmental Impact Statement will be prepared for a proposed highway project in Franklin and Licking Counties, Ohio.

FOR FURTHER INFORMATION, CONTACT: Andreas Garnes, Rural Programs Engineer, Federal Highway Administration, 200 N. High Street, Room 328, Columbus, Ohio 43215, Telephone: (614) 280-6856.

SUPPLEMENTARY INFORMATION: The FHWA, in cooperation with the Ohio Department of Transportation, will prepare an Environmental Assessment (EA) or Environmental Impact Statement (EIS) for a proposal to improve the S.R. 161/S.R. 37/S.R. 16 Macro Corridor by construction of a limited access divided highway facility that will connect the existing four lane facilities located at the western terminus in the vicinity of the City of Columbus, Franklin County, Ohio and the eastern terminus in the vicinity of Granville, Licking County, Ohio. The Macro Corridor extends from IR 270 to IR 77 and encompasses the portions of SR 161, SR 37, SR 16 and US 36 located between these two Interstate Routes.

Construction of this section of the Macro Corridor is considered necessary to complete a missing link in the existing Macro Corridor. This construction is considered necessary to relive congestion and improve safety for local and regional travel. The unimpeded flow of goods and services is essential to the economic vitality of Ohio and Macro-Corridors are essential in the delivery of these goods and services. This proposal needs to be consistent with regional and statewide goals for planned growth and mobility in Central Ohio.

Alternatives will be developed that will address capacity and safety deficiencies. Alternative solutions may consist of different alignments that diverge significantly from the existing alignment within the corridor in some sections. The alternatives may also include improving and widening the existing roadway. FHWA, ODOT, and local agencies will be inviting participation in defining the alternatives to be evaluated in the EA or EIS, and any significant social, economic, or environmental issues related to the alternatives.

Letters describing the proposed action and soliciting comments will be sent to appropriate Federal, State, and local agencies and to private organizations and citizens who have previously expressed or are known to have interest in this proposal. Coordination with federal, state, and local agencies will be conducted at the established concurrence points in ODOT's preliminary development process. A series of public meetings will be held throughout the development of the project. At a minimum, the meetings will be held in accordance with ODOT's Preliminary Development Process. The first public meetings will be held in the summer of 2000 and property owners in the study area were notified of the project April 20, 2000. In addition, a public hearing will be held. Public notice will be given of the time and place of the meetings and hearing. The EA or draft EIS will be available for public agency review and comment prior to the public hearing. To ensure that the full range of issues relating to this proposed action are identified and addressed, comments and suggestions are invited from all interested parties. Comments or questions concerning this proposed action should be sent to the FHWA at the address provided above.

(Catalog of Federal Domestic Assistance Program Number 20.205, Highway Planning and Construction. The regulations implementing Executive Order 12372 regarding intergovernmental consultation on Federal programs and activities apply to this program)

Issued on: May 12, 2000.
Andreas Garnes,
Rural Programs Engineer, Federal Highway Administration, Columbus, Ohio.

[FR Doc. 00-12783 Filed 5-19-00; 8: 45 am]

BILLING CODE 4910-22-P